DEPARTMENT OF STATE

[Public Notice: 6401]

Bureau of Educational and Cultural Affairs; “Connecting Through Difference: Share Your Story” Online Video Contest

ACTION: Notice.

SUMMARY: People all over the world ages 14 and older are invited to submit videos, not to exceed three minutes in length, containing any form of artistic expression including, but not limited to, dance, spoken word, poetry, and song, that highlight the theme “Connecting through Difference: Share your Story.”

DATES: Contest submissions will be accepted from on or about December 1, 2008, 12 p.m. EST, until January 26, 2009, 11:59 p.m. EST. The Department will accept comments from the public up to December 16, 2008.

SUBMISSIONS: Only videos submitted online at connect.state.gov will be considered.

ADDRESSES: You may submit comments, identified by any of the following methods:

• Mail (paper, disk, or CD-ROM submissions): U.S. Department of State, Office of the Assistant Secretary for Educational and Cultural Affairs, SA-44, 301 4th Street, SW., Room 800, Washington, DC 20547, Attn: Michele Peters.

• E-mail: ExchangesDirect@state.gov. Please reference “Online Video Contest” in the subject line of your message.

FOR FURTHER INFORMATION CONTACT: Ms. Michele Peters, Office of the Assistant Secretary for Educational and Cultural Affairs, (202) 203-5102; SA-44, 301 4th Street, SW., Room 800, Washington, DC 20547.

SUPPLEMENTARY INFORMATION: The Bureau of Educational and Cultural Affairs (ECA), under the authority of the Mutual Educational and Cultural Exchange Act of 1961, as amended (Fulbright-Hays), fosters mutual understanding between the United States and other countries through international educational, professional and cultural programs. ECA does so by promoting personal, professional, and institutional ties between private citizens and organizations in the United States and those abroad, as well as by presenting U.S. society and culture in all of its diversity to overseas audiences.

The strategic objective of ECA is to assist in the development of friendly, sympathetic, and peaceful relations between the United States and other countries of the world by establishing and furthering common interests and values between Americans and people of different countries, cultures and faiths. To this end, ECA designs and implements programs that build personal and institutional relationships and that engage educational institutions and the private sector as partners on key public diplomacy initiatives.

ECA is building on and amplifying its international exchange programs by creating online communities that enhance mutual understanding. On October 1, 2008 ECA launched an interactive Web site and online social networking space (connect.state.gov) to build a worldwide community of people dedicated to creating international understanding and dialogue. Through this Online Video Contest, members of ECA's social networking Web site are invited to submit one video each that addresses the theme “My Culture + Your Culture = ? Connecting Through Difference: Share your Story”. The Contest goal is to open active channels of communication, with the ECA Web site serving as the focal point for fostering a discussion of common values and interests. This overview of the Contest initiative is provided in order fully to inform the public and interested members of the philanthropic, corporate and NGO communities of ECA's strategic objectives and priorities.

The Contest will be open to the general public worldwide and will be launched and open for submissions in December 2008. Employees and contractors of the U.S. Government, and their immediate family members (spouse, parent, child, sibling and spouse or “step” of each) and those living in the same household, are not eligible to enter the Contest. The general public will be invited to submit videos of three minutes or less. Videos will be submitted and judged in two age group categories: (1) 14-17 years, and (2) 18 years and over (ages at time of submission). Videos may contain any form of artistic expression (e.g., song, dance, skit). Initially, the general public worldwide will be invited to vote for their favorite video contest submissions on ECA's social networking Web site (connect.state.gov). The 40 videos receiving the most public support will be sent to a blue ribbon panel of alumni from ECA's international exchange programs to be ranked. Four grand prize winners will receive global recognition of their videos and be eligible to participate in an ECA-funded, approximately two-week international exchange program. Winners must have a valid passport by the time of travel; prizes are contingent on visa eligibility and issuance.

Contest Details and Rules will be available at connect.state.gov no later than the December 1, 2008 contest start date.

ECA welcomes the views of the philanthropic, corporate and NGO communities on this initiative and the potential for strategic partnership in achieving them.

Dated: October 10, 2008.
Goli Ameri,
Assistant Secretary for Educational and Cultural Affairs, Department of State.

[FR Doc. E8-24721 Filed 10-16-08; 8:45 am]

BILLING CODE 4710-05-P